DEPARTMENT OF HEALTH AND HUMAN SERVICES

Centers for Disease Control and Prevention

[Program Announcement 04275]

Expansion of HIV/AIDS, STD and TB Laboratory Activities at the Namibia Institute of Pathology (NIP) in the Republic of Namibia; Notice of Intent To Fund Single Eligibility Award

A. Purpose

The Centers for Disease Control and Prevention (CDC) announces the intent to fund fiscal year (FY) 2004 funds for a cooperative agreement program to improve national surveillance for HIV infection, sexually transmitted diseases (STDs), and Tuburculosis (TB); and the capacity of the Namibia Institute of Pathology (NIP) to provide services for diagnosing these diseases and others related to HIV infection and transmission in Namibia. The Catalog of Federal Domestic Assistance number for this program is 93.941.

B. Eligible Applicant

Assistance will be provided only to the Namibia Institute of Pathology.

The NIP is the only organization in Namibia qualified to collaborate with the Global AIDS Program (GAP) of CDC-Namibia because it has the legal authority, expertise and capacity to perform the key public health role of monitoring communicable diseases, such as AIDS, STD and TB. NIP has been charged by the Ministry of Health and Social Services (MOHSS) to serve as the national reference laboratory for HIV, STD and TB, and to develop, implement and evaluate laboratory diagnostic and quality assurance activities related to these diseases. NIP has mechanisms in place to access information for, and the scientific expertise to apply these factors to, the development of laboratory capacity at the national and regional levels that will assist the government in its HIV, STD, and TB prevention programs. The major purpose of this announcement is to build upon the existing public health laboratory framework in Namibia. No other institution in the country has the capacity, legal mandate and expertise to accomplish this task.

C. Funding

Approximately $1,200,000 is available in FY 2004 to fund this award. It is expected that the award will begin on or before September 1, 2004 and will be made for a 12-month budget period within a project period of up to five years. Funding estimates may change.

D. Where To Obtain Additional Information

For general comments or questions about this announcement, contact: Technical Information Management, CDC Procurement and Grants Office, 2920 Brandywine Road, Atlanta, GA 30341-4146, Telephone: (770) 488-2700.

For technical questions about this program, contact: Dr. Tom Kenyon, Project Officer, Global AIDS Program (GAP), c/o U.S. Embassy Windhoek, 2540 Windhoek Place, Washington, DC 20521, Telephone: 264 61 203 2271, Fax number: 264 61 226 959, E-mail: TKenyon@cdc.gov.

Dated: July 12, 2004.
William P. Nichols,
Acting Director, Procurement and Grants Office, Centers for Disease Control and Prevention.

[FR Doc. 04-16169 Filed 7-15-04; 8:45 am]

BILLING CODE 4163-18-P